DEPARTMENT OF TRANSPORTATION

Federal Aviation Administration

14 CFR Part 39

[Docket No. FAA-2012-1052; Directorate Identifier 2012-CE-014-AD; Amendment 39-17471; AD 2013-11-11]

RIN 2120-AA64

Airworthiness Directives; Cessna Aircraft Company Airplanes

AGENCY: Federal Aviation Administration (FAA), DOT.

ACTION: Final rule.

SUMMARY: We are superseding AD 2000-04-01 that applies to certain Cessna Aircraft Company (Cessna) Models 172R, 172S, 182S, 182T, T182T, 206H, and T206H airplanes. AD 2000-04-01 currently requires an inspection of the engine oil pressure switch and, if applicable, replacement of the engine oil pressure switch. This AD increases the applicability of the AD, places a life-limit of 3,000 hours time-in-service on the engine oil pressure switch, and requires replacement when the engine oil pressure switch reaches its life limit. This AD was prompted by new reports of internal failure of the engine oil pressure switch, which could result in complete loss of engine oil with consequent partial or complete loss of engine power or fire. We are issuing this AD to correct the unsafe condition on these products.

DATES: This AD is effective August 1, 2013.

The Director of the Federal Register approved the incorporation by reference of certain publications listed in the AD as of August 1, 2013.

ADDRESSES: For service information identified in this AD, contact Cessna Aircraft Company, Product Support, P.O. Box 7706, Wichita, Kansas 67277; telephone: (316) 517-5800; fax (316) 942-9006; Internet: www.cessna.com/customer-service/technical-publications.html. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Jeff Janusz, Sr. Propulsion Engineer, Wichita Aircraft Certification Office, FAA, 1801 Airport Road, Wichita, KS 67209; phone: (316) 946-4148; fax: (316) 946-4107; email: jeff.janusz@faa.gov.

SUPPLEMENTARY INFORMATION:

Discussion

We issued a supplemental notice of proposed rulemaking (SNPRM) to amend 14 CFR part 39 to supersede AD 2000-04-01, amendment 39-11583 (65 FR 8649, February 22, 2000). AD 2000-04-01 applies to the specified products. The SNPRM published in the Federal Register on March 7, 2013 (78 FR 14726). The NPRM (77 FR 60062, October 2, 2012) proposed to increase the applicability of the AD and place a life-limit of 3,000 hours time-in-service (TIS) on the engine oil pressure switch, requiring replacement when the engine oil pressure switch reaches its life limit. The SNPRM proposed to change the applicable serial numbers ranges and place a life-limit of 3,000 hours TIS on the engine oil pressure switch, requiring replacement when the engine oil pressure switch reaches its life limit.

Comments

We gave the public the opportunity to participate in developing this AD. We received no comments on the SNPRM (78 FR 14726, March 7, 2013) or on the determination of the cost to the public.

Conclusion

We reviewed the relevant data and determined that air safety and the public interest require adopting this AD as proposed except for minor editorial changes. We have determined that these minor changes:

• Are consistent with the intent that was proposed in the SNPRM (78 FR 14726, March 7, 2013) for correcting the unsafe condition; and

• Do not add any additional burden upon the public than was already proposed in the SNPRM (78 FR 14726, March 7, 2013).

Costs of Compliance

We estimate that this AD affects 6,156 airplanes of U.S. registry.

We estimate the following costs to comply with this AD:

Estimated Costs
Action | Labor cost | Parts cost | Cost per product | Cost on U.S. operators
Inspection of the airplane or engine records | .5 work-hour × $85 per hour = $42.50 | Not applicable | $42.50 | $261,630
Inspection of the engine oil pressure switch installation | .5 work-hour × $85 per hour = $42.50 | Not applicable | 42.50 | 261,630
Removal and replacement of the engine oil pressure switch and logbook entry | .5 work-hour × $85 per hour = $42.50 | $54 | 96.50 | 594,054

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive AD 2000-04-01, amendment 39-11583 (65 FR 8649, February 22, 2000), and adding the following new AD:

Cessna Aircraft Company: 2013-11-11: Amendment 39-17471; Docket No. FAA-2012-1052; Directorate Identifier 2012-CE-014-AD.

(a) Effective Date

This AD is effective August 1, 2013.

(b) Affected ADs

This AD supersedes AD 2000-04-01, Amendment 39-11583 (65 FR 8649, February 22, 2000).

(c) Applicability

This AD applies to Cessna Aircraft Company Models 172R, serial numbers (S/N) 17280001 through 17281618; 172S, S/N 172S8001 through 172S11256; 182S, S/N 18280001 through 18280944; 182T, S/N 18280945 through 18282357; T182T, S/N T18208001 through T18209089; 206H, S/N 20608001 through 20608349; and T206H, S/N T20608001 through T20609079; certificated in any category.

(d) Subject

Joint Aircraft System Component (JASC)/Air Transport Association (ATA) of America Code 7931, Engine Oil Pressure.

(e) Unsafe Condition

This AD was prompted by new reports of internal failure of the improved engine oil pressure switch, which could result in complete loss of engine oil with consequent partial or complete loss of engine power or fire. We are issuing this AD to increase the applicability of the AD and place a life-limit of 3,000 hours time-in-service (TIS) on the engine oil pressure switch, requiring replacement when the engine oil pressure switch reaches its life limit.

(f) Compliance

Comply with this AD within the compliance times specified, following Cessna Service Bulletin SB 07-79-01, dated January 29, 2007, unless already done.

(g) Actions

(1) At the next scheduled oil change, annual inspection, or 100-hour time-in-service (TIS) inspection after August 1, 2013 (the effective date of this AD), whichever occurs later, but in no case later than 12 months after August 1, 2013 (the effective date of this AD), inspect the engine oil pressure switch to determine if it is part-number (P/N) 77041 or P/N 83278.

(2) If after the inspection required in paragraph (g)(1) of this AD, P/N 77041 engine oil pressure switch is installed, before further flight, replace the engine oil pressure switch with a new, zero time, P/N 83278 engine oil pressure switch. Record the engine oil pressure switch part number, date, and airplane hours TIS in the airplane log book. The recorded engine oil pressure switch TIS will be used as the benchmark for calculation of the 3,000 hour TIS limit on the engine oil pressure switch.

(3) After August 1, 2013 (the effective date of this AD), do not install a P/N 77041 engine oil pressure switch on any affected airplane.

(4) If after the inspection required in paragraph (g)(1) of this AD it is confirmed that P/N 83278 engine oil pressure switch is installed, through inspection of the airplane or engine logbooks determine the TIS of the engine oil pressure switch.

(5) If after the inspection required in paragraph (g)(1) of this AD you cannot positively identify the hours TIS on the P/N 83278 engine oil pressure switch, before further flight, replace the engine oil pressure switch with a new, zero time, P/N 83278 engine oil pressure switch. Record the engine oil pressure switch part number, date, and airplane hours in the airplane log book. The recorded engine oil pressure switch TIS will be used as the benchmark for calculation of the 3,000 hour TIS limit on the engine oil pressure switch.

(6) When the engine oil pressure switch is at or greater than 3,000 hours TIS or within 50 hours TIS after August 1, 2013 (the effective date of this AD), whichever occurs later, and repetitively thereafter at intervals not to exceed 3,000 hours TIS on the P/N 83278 engine oil pressure switch, replace it with a new, zero time, P/N 83278 engine oil pressure switch. Record the engine oil pressure switch part number, date, and airplane hours in the airplane log book. The recorded engine oil pressure switch TIS will be used as the benchmark for calculation of the 3,000 hour TIS limit on the engine oil pressure switch.

(h) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(i) Related Information

(1) For more information about this AD, contact Jeff Janusz, Sr. Propulsion Engineer, Wichita ACO, FAA, 1801 Airport Road, Wichita, KS 67209 phone: (316) 946-4148; fax: (316) 946-4107; email: jeff.janusz@faa.gov.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Cessna Service Bulletin SB 07-79-01, dated January 29, 2007.

(ii) Reserved.

(3) For Cessna Aircraft Company service information identified in this AD, contact Cessna Aircraft Company, Product Support, P.O. Box 7706, Wichita, Kansas 67277; telephone: (316) 517-5800; fax (316) 942-9006; Internet: www.cessna.com/customer-service/technical-publications.html.

(4) You may view this service information at FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on June 7, 2013.
Earl Lawrence,
Manager, Small Airplane Directorate, Aircraft Certification Service.

[FR Doc. 2013-14995 Filed 6-26-13; 8:45 am]

BILLING CODE 4910-13-P